DEPARTMENT OF TRANSPORTATION

Federal Aviation Administration

14 CFR Part 39

[Docket No. FAA-2015-3620; Directorate Identifier 2015-CE-029-AD]

RIN 2120-AA64

Airworthiness Directives; Pacific Aerospace Limited Airplanes

AGENCY: Federal Aviation Administration (FAA), Department of Transportation (DOT).

ACTION: Notice of proposed rulemaking (NPRM).

SUMMARY: We propose to adopt a new airworthiness directive (AD) for certain Pacific Aerospace Limited Model 750XL airplanes that would supersede AD 2014-20-13. This proposed AD results from mandatory continuing airworthiness information (MCAI) originated by an aviation authority of another country to identify and correct an unsafe condition on an aviation product. The MCAI describes the unsafe condition as fatigue cracks on the fin forward pickup plates, which could cause it to fail. We are issuing this proposed AD to require actions to address the unsafe condition on these products.

DATES: We must receive comments on this proposed AD by October 13, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Pacific Aerospace Limited, Airport Road, Hamilton, Private Bag 3027, Hamilton 3240, New Zealand, phone: +64 7 843 6144; fax: +64 7 843 6134; email: pacific@aerospace.co.nz; Internet: www.aerospace.co.nz. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2015-3620; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Comments Invited

We invite you to send any written relevant data, views, or arguments about this proposed AD. Send your comments to an address listed under the ADDRESSES section. Include “Docket No. FAA-2015-3620; Directorate Identifier 2015-CE-029-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On September 26, 2014, we issued AD 2014-20-13, Amendment 39-17986 (79 FR 60329, October 7, 2014). That AD required actions intended to address an unsafe condition on all Pacific Aerospace Limited Model 750XL airplanes and was based on mandatory continuing airworthiness information (MCAI) originated by an aviation authority of another country.

Since we issued AD 2014-20-13, Amendment 39-17986 (79 FR 60329, October 7, 2014), Pacific Aerospace Limited has revised the related service information and developed a terminating action for the repetitive inspections.

The Civil Aviation Authority (CAA), which is the aviation authority for New Zealand, has issued AD DCA/750XL/18A, dated August 4, 2015 (referred to after this as “the MCAI”), to correct an unsafe condition for the specified products. The MCAI states:

DCA/750XL/18A revised to add note 2 and introduce minor editorial changes. This AD supersedes DCA/750XL/18 and DCA/750XL/16A to introduce the requirements in Pacific Aerospace Limited Mandatory Service Bulletin (MSB) PACSB/XL/068 issue 5, dated 29 June 2015. The revised MSB introduces a life limit for fin forward pickup P/N 11-10281-1 and reduces the torque setting for the fin forward pickup bolt to alleviate some of the loads applied to the pickup. The MSB also introduces a replacement fin forward pickup P/N 11-03375-1 which is not life limited.

You may examine the MCAI on the Internet at http://www.regulations.gov by searching for and locating Docket No. FAA-2015-3620.

Related Service Information Under 1 CFR part 51

Pacific Aerospace Limited has issued Mandatory Service Bulletin PACSB/XL/068, Issue 5, dated June 29, 2015. This service bulletin reduces the torque setting for the fin forward pickup bolt and introduces a new, improved replacement fin forward pickup plate, part number P/N 11-0375-1, to replace P/N 11-10281-1. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 18 products of U.S. registry. We also estimate that it would take about 22 work-hours per product to comply with all the requirements of this proposed AD. The average labor rate is $85 per work-hour. Required parts would cost about $1,692 per product.

Based on these figures, we estimate the cost of the proposed AD on U.S. operators to be $64,116, or $3,562 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-17986 (79 FR 60329, October 7, 2014), and adding the following new AD:

Pacific Aerospace Limited: Docket No. FAA-2015-3620; Directorate Identifier 2015-CE-029-AD.

(a) Comments Due Date

We must receive comments by October 13, 2015.

(b) Affected ADs

This AD supersedes AD 2014-20-13, Amendment 39-17986 (79 FR 60329, October 7, 2014).

(c) Applicability

This AD applies to Pacific Aerospace Limited Model 750XL airplanes, all serial numbers through XL-193, XL-195, and XL-197, certificated in any category.

(d) Subject

Air Transport Association of America (ATA) Code 53: Fuselage.

(e) Reason

This AD was prompted by mandatory continuing airworthiness information (MCAI) originated by an aviation authority of another country to identify and correct an unsafe condition on an aviation product. The MCAI describes the unsafe condition as fatigue cracks on the fin forward pickup plates. We are issuing this AD to detect and correct cracked fin forward pickup plates to prevent failure of the fin forward pickup plates, which could result in reduced control.

(f) Actions and Compliance

Unless already done, do the actions in paragraphs (f)(1) through (f)(4) of this AD:

(1) Within the next 150 hours time-in-service (TIS) after the effective date of this AD, reduce the fin forward pickup bolt torque following the procedures in section 1.D., paragraphs A. 1) and A. 2) of the PLANNING INFORMATION in Pacific Aerospace Limited Mandatory Service Bulletin PACSB/XL/068, Issue 5, dated June 29, 2015.

(2) At or before reaching 2,000 hours total time-in-service (TTIS) or within the next 150 hours TIS after the effective date of this AD, whichever occurs later, and repetitively thereafter at intervals not to exceed 600 hours TIS or 12 months, whichever occurs first, do a detailed visual inspection and liquid penetrant inspection of the fin forward pickup plates for any evidence of cracking. Do the inspections following the procedures in sections 2.A. and 2.B. of the ACCOMPLISHMENT INSTRUCTIONS in Pacific Aerospace Limited Mandatory Service Bulletin PACSB/XL/068, Issue 5, dated June 29, 2015.

(3) If cracks are found during any inspection required in paragraph (f)(2) of this AD, before further flight, replace the fin forward pickup plates with new fin forward pickup plates, part number (P/N) 11-03375-1. Do the replacement following the procedures in section 2.C. of the ACCOMPLISHMENT INSTRUCTIONS in Pacific Aerospace Limited Mandatory Service Bulletin PACSB/XL/068, Issue 5, dated June 29, 2015. This replacement terminates the repetitive inspections required in paragraph (f)(2) of this AD.

(4) If no cracks are found during any inspection required in paragraph (f)(2) of this AD, at or before reaching 6,000 hours TTIS or within the next 600 hours TIS after the effective date of this AD, whichever occurs later, replace the fin forward pickup plates, P/N 11-10281-1, with P/N 11-03375-1. Do the replacement following the procedures in section 2.D. of the ACCOMPLISHMENT INSTRUCTIONS in Pacific Aerospace Limited Mandatory Service Bulletin PACSB/XL/068, Issue 5, dated June 29, 2015. This replacement terminates the repetitive inspections required in paragraph (f)(2) of this AD .

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI Civil Aviation Authority (CAA) AD DCA/750XL/18A, dated August 4, 2015, for related information. You may examine the MCAI on the Internet at http://www.regulations.gov by searching for and locating Docket No. FAA-2015-3620. For service information related to this AD, contact Pacific Aerospace Limited, Airport Road, Hamilton, Private Bag 3027, Hamilton 3240, New Zealand, phone: +64 7 843 6144; fax: +64 7 843 6134; email: pacific@aerospace.co.nz; Internet: www.aerospace.co.nz. You may review copies of the referenced service information at the FAA, Small Airplane Directorate, 901 Locust, Kansas City, Missouri 64106. For information on the availability of this material at the FAA, call (816) 329-4148.

Issued in Kansas City, Missouri, on August 14, 2015.
Earl Lawrence,
Manager, Small Airplane Directorate, Aircraft Certification Service.

[FR Doc. 2015-21097 Filed 8-26-15; 8:45 am]

BILLING CODE 4910-13-P